DEPARTMENT OF LABOR

Employment and Training Administration

[TA-W-39,989]

Crouse-Hinds, Division of Cooper Industries, Inc., Syracuse, NY; Notice of Negative Determination Regarding Application for Reconsideration

By application of March 15, 2002, the International Brotherhood of Electrical Workers (IBEW), Local #2084 requested administrative reconsideration of the Department's negative determination regarding eligibility for workers and former workers of the subject firm to apply for Trade Adjustment Assistance (TAA). The denial notice was signed on February 26, 2002 and published in the Federal Register on March 20, 2002 (67 FR 13010).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, filed on behalf of workers at Crouse-Hinds, Division of Cooper Industries, Inc., Syracuse, New York engaged in the production of electrical products designed to protect electrical systems, was denied because the “contributed importantly” group eligibility requirement of Section 222(3) of the Trade Act of 1974, as amended, was not met. The “contributed importantly” test is generally demonstrated through a survey of the workers' firm's customers. The investigation revealed that there was no lost customer base at the Syracuse plant. The investigation further revealed that the company anticipates transferring some of the production to a foreign source, but this did not occur during the investigation. The company did not import electrical products that protect electrical systems during the period of the investigation.

The petitioner alleges that some production at the subject firm was recently produced at affiliated foreign facilities. The petitioner further indicated, that this production began at the time of the writing of their request for administrative reconsideration.

A shift in production is not relevant to meeting the eligibility requirement relating to the Trade Act of 1974. In order for the workers to meet the eligibility requirement, imports “like or directly competitive” with what the subject plant produced must “contribute importantly” to the layoffs at the subject plant. A review of the initial investigation shows that the company did not import products “like or directly competitive” during the initial investigation.

A TAA petition filed by the workers of Crouse-Hinds, Division of Cooper Industries, Inc., Syracuse, New York was instituted by the Department of Labor on April 8, 2002. The identifying number is TA-W-41,277. That investigation will consider all pertinent data that was obtained during the initial investigation and all relevant data obtained since that investigation.

Conclusion

After review of the application and investigative findings, I conclude that there has been no error or misinterpretation of the law or of the facts which would justify reconsideration of the Department of Labor's prior decisions. Accordingly, the application is denied.

Signed at Washington, DC, this 14th day of May, 2002.
Edward A. Tomchick,
Director, Division of Trade Adjustment Assistance.

[FR Doc. 02-14591 Filed 6-10-02; 8:45 am]

BILLING CODE 4510-30-P